DEPARTMENT OF AGRICULTURE

Forest Service

White River National Forest; Summit County, CO; 2013 Arapahoe Basin Improvements EIS

AGENCY: Forest Service, USDA.

ACTION: Notice of intent to prepare an environmental impact statement.

SUMMARY: Arapahoe Basin Ski Area (A-Basin) has submitted a proposal to the White River National Forest (WRNF) to pursue approval of proposed projects included in its 2012 Master Development Plan (MDP). The WRNF has accepted this proposal, and is preparing an Environmental Impact Statement (EIS) to analyze and disclose the potential environmental effects of implementing the projects. The Proposed Action is designed to: Provide The Beavers with snow safety operations and ski patrol services consistent with statements made in the 2002 WRNF Forest Plan FEIS; accommodate existing and future demand for high Alpine and open bowl skiing while protecting and enhancing the distinctive skiing experience that A-Basin provides; improve access to Montezuma Bowl; upgrade or remove existing lifts, as needed; improve water storage capacity for existing snowmaking operations; and, enhance four-season recreational opportunities.

DATES: Comments concerning the scope of the analysis must be received by January 21, 2014. The draft environmental impact statement is expected to be available for public review in the spring of 2014 and the final environmental impact statement is expected in the winter of 2014/15.

ADDRESSES: Send written comments to: Scott Fitzwilliams, Forest Supervisor, c/Joe Foreman, White River National Forest, PO Box 620, Silverthorne, CO 80498; FAX (970) 468-7735 or by email to: wrnf_scoping_comments@fs.fed.us (please include A-Basin 2013 Improvements EIS in the subject line).

FOR FURTHER INFORMATION CONTACT: Additional information related to the proposed project can be obtained from: Joe Foreman, Winter Sports Permit Administrator, Dillon Ranger District, 680 Blue River Pkwy, PO Box 620, Silverthorne, CO 80498. Mr. Foreman can be reached by phone at (970) 262-3443 or by email at jgforeman@fs.fed.us.

Individuals who use telecommunication devices for the deaf (TDD) may call the Federal Information Relay Service (FIRS) at 1-800-877-8339 between 8 a.m. and 8 p.m., Eastern Time, Monday through Friday.

SUPPLEMENTARY INFORMATION: Purpose and Need for Action: Dating back to 1982, six avalanche fatalities have occurred in the backcountry immediately adjacent to A-Basin's operational boundary—five in the Steep Gullies and one in Beaver Bowl. Currently, The Beavers can be accessed legally through backcountry access points located along the western extent of A-Basin's operational boundary. From these points, skiers may exit the controlled/patrolled portions of A-Basin's operational boundary to access adjacent backcountry terrain in The Beavers, the Steep Gullies and the Rock Pile. In particular, these areas receive heavy backcountry use by the public once the snowpack is sufficient. The Proposed Action proposes to incorporate The Beavers into A-Basin's operational boundary to improve the safety of recreating in that area.

Documentation of the popularity of The Beavers can be traced back to the 2002 WRNF Forest Plan FEIS, which provides detailed information on “Future Expansion” areas at existing ski areas across Eagle, Garfield, Pitkin, and Summit counties. Related to A-Basin's SUP area, and specifically related to planned projects discussed in this proposal, the 2002 Forest Plan FEIS states:

The Beavers are popular with backcountry skiers and snowboarders who access the site from Arapahoe Basin ski area. Steep north-facing chutes above treeline with numerous rock outcrops characterize the terrain. Most skiers hike or hitchhike uphill to return to their vehicles. Avalanche risk to the public is potentially high. The risk could be partially mitigated if the Beavers site was developed for skiing as part of the ski area.

Bringing The Beavers into A-Basin's operational boundary would provide the area with snow safety operations and ski patrol services consistent with statements made in the 2002 WRNF Forest Plan FEIS.

In addition to safety, A-Basin's market is unique in that it is strongly skewed toward advanced ability level skiers as compared to the majority of ski resorts in the Central Rocky Mountain region, who primarily accommodate intermediate skiers. As visitation increases in the future, A-Basin needs to ensure that its reputation for advanced terrain with low trail densities is not only maintained, but improved. It is therefore reasonable to look to opportunities within the existing SUP area for opportunities to meet the needs of A-Basin's market.

Finally, guest expectations continue to evolve and ski areas must constantly focus on raising service standards and improving the overall recreational experience. By upgrading, supplementing and removing outdated infrastructure within the ski area, improving snowmaking efficiencies and providing activities to enhance the four-season recreation experience on NFS lands, A-Basin can continue to raise service standards while maintaining the unique A-Basin experience.

Proposed Action: The Proposed Action includes the following five elements, identified below. A full description of each element can be found at: http://www.fs.usda.gov/projects/whiteriver/landmanagement/projects.

• Incorporate The Beavers and the Steep Gullies into A-Basin's Operational Boundary, and providing lift access, developed ski trails and tree skiing in that area. The proposed terrain would be patrolled and avalanche control/snow safety work would be conducted throughout the area. To minimize or mitigate potential effects to wildlife from incorporating this terrain into the operational boundary, conservation measures would be considered. The conservation measures would be further defined in conjunction with the United States Fish and Wildlife Service and other partners.

• Install a surface lift from the Lenawee Mountain and Norway lifts to Montezuma Bowl to improve access from the front side to Montezuma Bowl.

• Replace the Pallavicini and Molly Hogan Lifts with more current lift technology in similar alignments and with lifts that provide similar hourly capacities.

• Expand the existing snowmaking water storage reservoir from 5.5 acre feet to approximately 35 acre feet.

• Provide a Zip Line Tour and Challenge/Ropes Course at the ski area, accessible from existing ski area infrastructure.

These projects are designed to provide lift served access to additional advanced terrain within the existing SUP boundary, while maintaining the integrity of the unique characteristics for which A-Basin is known. The proposed projects are consistent with the A-Basin's 2012 Master Development Plan.

Based on the Proposed Action there may be a need to do a site-specific Forest Plan Amendment to address Southern Rockies Lynx Amendment Standard All S1.

Responsible Official: The Responsible Official is Scott Fitzwilliams, Forest Supervisor for the WRNF.

Nature of Decision To Be Made: Based on the analysis that will be documented in the forthcoming EIS, the Responsible Official will decide whether or not to implement, in whole or in part, the Proposed Action or another alternative that may be developed by the Forest Service as a result of scoping.

Scoping Process: This notice of intent initiates the scoping process, which guides the development of the environmental impact statement. The Forest Service is soliciting comments from Federal, State and local agencies and other individuals or organizations that may be interested in or affected by implementation of the proposed projects. A public open house regarding this proposal will be held at the Silverthorne Library located at 651 Center Circle, Silverthorne, Colorado, on December 3, 2013 between 4:30 and 6:30 p.m. Representatives from the WRNF and A-Basin will be present to answer questions and provide additional information on this project.

Public questions and comments regarding this proposal are an integral part of this environmental analysis process. Input provided by interested and/or affected individuals, organizations and governmental agencies will be used to identify resource issues that will be analyzed in the environmental impact statement. The Forest Service will identify significant issues raised during the scoping process, and use them to formulate alternatives, prescribe mitigation measures and project design features, or analyze environmental effects.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: November 27, 2013.
Jan Cutts,
District Ranger.

[FR Doc. 2013-28995 Filed 12-3-13; 8:45 am]

BILLING CODE 3410-11-P